DEPARTMENT OF LABOR

Employment and Training Administration

[TA-W-54,709]

Summitville Tiles, Inc., Minerva, OH; Notice of Affirmative Determination Regarding Application for Reconsideration

By letter of June 30, 2004, the company official requested administrative reconsideration of the Department's Notice of Negative Determination Regarding Eligibility to Apply for Worker Adjustment Assistance, applicable to workers of the subject firm. The Notice was signed on May 24, 2004 and published in the Federal Register on June 17, 2004 (69 FR 33941).

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 21st day of July, 2004.
Elliott S. Kushner,
Certifying Officer, Division of Trade Adjustment Assistance.

[FR Doc. 04-17720 Filed 8-3-04; 8:45 am]

BILLING CODE 4510-30-P